FEDERAL COMMUNICATIONS COMMISSION

[WT Docket No. 11-35; DA 11-353]

Wireless Telecommunications Bureau Seeks Comment on Petition for Declaratory Ruling Asking To Clarify the Scope of Section 332(c)(3)(A)

AGENCY: Federal Communications Commission.

ACTION: Notice.

SUMMARY: In this document, the Wireless Telecommunications Bureau seeks comment on a December 3, 2010 petition for declaratory ruling (Petition) filed by CTIA-The Wireless Association (Petitioners). The Petitioners ask the Federal Communications Commission (Commission) to clarify “the scope of Section 332(c)(3)(A)'s ban on state and local entry regulation.”

DATES: Interested parties may file comments on or before April 11, 2011, and reply comments on or before May 11, 2011.

ADDRESSES: You may submit comments, identified by WT Docket No. 11-35, by any of the following methods:

• Federal eRulemaking Portal: http://www.regulations.gov. Follow the instructions for submitting comments.

• Federal Communications Commission's Web Site: http://fjallfoss.fcc.gov/ecfs2/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the supplementary information section of this document.

FOR FURTHER INFORMATION CONTACT: Jennifer Salhus, Spectrum and Competition Policy Division, Wireless Telecommunications Bureau, 202-418-1310.

SUPPLEMENTARY INFORMATION: This is a summary of the Commission's Public Notice released on February 25, 2011. The full text of the public notice is available for public inspection and copying during business hours in the FCC Reference Information Center, Portals II, 445 12th Street, SW., Room CY-A257, Washington, DC 20554. It also may be purchased from the Commission's duplicating contractor at Portals II, 445 12th Street, SW., Room CY-B402, Washington, DC 20554; the contractor's Web site, http://www.bcpiweb.com; or by calling (800) 378-3160, facsimile (202) 488-5563, or e-mail FCC@BCPIWEB.com. Additionally, the complete item is available on the Federal Communications Commission's Web site at http://www.fcc.gov.

The Petitioners state that the Connecticut Department of Public Utility Control (Connecticut PUC) “ordered that wireless providers must apply for and obtain a Certificate of Public Convenience and Necessity (CPCN) from the [Connecticut PUC] before they can request permission to access public rights-of-way.” The Petitioners ask the Commission to declare that Connecticut's CPCN requirement is a form of entry regulation that is prohibited by section 332(c)(A)(3).

Pursuant to §§ 1.415 and 1.419 of the Commission's rules, 47 CFR 1.415, 1.419, interested parties may file comments and reply comments on or before the dates indicated above. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Federal Communications Commission.
Ruth Milkman,
Chief, Wireless Telecommunications Bureau.

[FR Doc. 2011-4790 Filed 3-2-11; 8:45 am]

BILLING CODE 6712-01-P